DEPARTMENT OF ENERGY

Federal Energy Regulatory Commission

[Docket No. RP00-490-001]

Transwestern Pipeline Company; Notice of Compliance Filing

June 25, 2002.

Take notice that on June 21, 2002, Transwestern Pipeline Company (Transwestern) tendered for filing as part of its FERC Gas Tariff, pro forma Second Revised Volume No. 1, the following pro forma tariff sheets:

Tenth Revised Sheet No. 20

Twenty-Third Revised Sheet No. 37

Eleventh Revised Sheet No. 38

Sixth Revised Sheet Nos. 39-40

Seventh Revised Sheet No. 51B

Second Revised Sheet No. 81D

Fourth Revised Sheet No. 84

Fifth Revised Sheet No. 92C

Third Revised Sheet No. 92E

First Revised Sheet No. 98

Ninth Revised Sheet No. 147

Fourth Revised Sheet No. 149

First Revised Sheet No. 154

Original Sheet No. 157

Original Sheet No. 159

Original Sheet No. 161

Fourth Revised Sheet No. 27

Third Revised Sheet No. 37A

Original Sheet No. 38A

Nineteenth Revised Sheet No. 48

Eighth Revised Sheet No. 80B

Fourth Revised Sheet No. 83

Second Revised Sheet No. 85

Fifth Revised Sheet No. 92D

Fourth Revised Sheet No. 92F

First Revised Sheet No. 99

Third Revised Sheet No. 148

First Revised Sheet No. 151

First Revised Sheet No. 155

Original Sheet No. 158

Original Sheet No. 160

Original Sheet No. 162

Transwestern states that on August 15, 2000, it submitted pro forma tariff sheets in compliance with the Commission's Order Nos. 637, 637-A, and 637-B issued in Docket Nos. RM98-10 and RM98-12 (Commission Orders). Transwestern states that it has recently held discussions with its customers on how to resolve the remaining issues in this proceeding. The enclosed tariff sheets represent Transwestern's proposal to address issues raised in protests in this proceeding and to incorporate suggestions made by customers. Transwestern states that in several instances, these tariff proposals exceed the requirements set forth in the Commission Orders, but represent matters of importance to Transwestern and its customers that are intertwined with the resolution of issues in this proceeding.

Transwestern states that its discussions with its customers regarding the August 15, 2000 compliance filing in this docket addressed the expressed concerns of those customers filing protests to specific aspects of Transwestern's filing. In addition, Transwestern states that certain provisions contained in the August 15, 2002 filing have been overtaken by subsequent events and are no longer required to comply with Order No. 637, et seq, (e.g., netting and trading provisions which were filed by Transwestern and accepted by the Commission in compliance with Order No. 587-L).

In the instant filing, Transwestern is withdrawing all of the pro forma tariff sheets filed on August 15, 2000 and is filing new pro forma tariff sheets which address the issues raised by those parties protesting Transwestern's August 15 filing and update Transwestern's filing to recognize the subsequent events which have occurred.

Any person desiring to protest said filing should file a protest with the Federal Energy Regulatory Commission, 888 First Street, NE., Washington, DC 20426, in accordance with Section 385.211 of the Commission's Rules and Regulations. All such protests must be filed on or before July 2, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16491 Filed 6-28-02; 8:45 am]

BILLING CODE 6717-01-P